DEPARTMENT OF JUSTICE

Office of Justice Programs

[OJP (OCR) Docket No. 1642]

Hearings of the Review Panel on Prison Rape

AGENCY: Office of Justice Programs, Justice.

ACTION: Notice of Hearing.

SUMMARY: The Office of Justice Programs (OJP) announces that the Review Panel on Prison Rape (Panel) will hold hearings in Washington, DC, on January 8-9, 2014. The hearing times and location are noted below. The purpose of the hearings is to assist the Bureau of Justice Statistics (BJS) in identifying common characteristics of victims and perpetrators of sexual victimization in U.S. prisons, jails, and juvenile facilities, and the common characteristics of U.S. prisons, jails, and juvenile facilities with the highest and lowest incidence of rape, respectively, based on anonymous surveys by the BJS of inmates and youth in representative samples of U.S. prisons, jails, and juvenile facilities. In May 2013, the BJS issued the report Sexual Victimization in Prisons and Jails Reported by Inmates, 2011-12. The report provides a listing of prisons and jails grouped according to the prevalence of reported sexual victimization, and formed the basis of the Panel's decision about which prison and jail facilities would be the subject of testimony. In June 2013, the BJS issued the report Sexual Victimization in Juvenile Facilities Reported by Youth, 2012. The report provides a listing of juvenile facilities grouped according to the prevalence of reported sexual victimization, and formed the basis of the Panel's decision about which juvenile facilities would be the subject of testimony.

DATES: The hearing schedule is as follows:

1. Wednesday, January 8, 2014, 8:30 a.m. to 12:15 p.m.: Bureau of Justice Statistics; Robert W. Dumond, LCMHC, CCMHC, Diplomate CFC, Senior Program Director, Just Detention International; Joyce Lukima, Vice President of Services, Pennsylvania Coalition Against Rape; Montana State Prison, Montana Department of Corrections—facility with a high prevalence of sexual victimization; Mabel Bassett Correctional Center, Oklahoma Department of Corrections—facility with a high prevalence of sexual victimization; Santa Rosa Correctional Institution, Florida Department of Corrections—facility with a high prevalence of sexual victimization; Lawtey Correctional Institution, Florida Department of Corrections—facility with a low prevalence of sexual victimization; and Jackie Brannon Correctional Center, Oklahoma Department of Corrections—facility with a low prevalence of sexual victimization.

2. Wednesday, January 8, 2014, 1:00 p.m.-4:15 p.m.: Estéban Gonzalez, President, American Jail Association; Giovanna E. Shay, Professor of Law, Western New England University School of Law; Philadelphia City Riverside Correctional Facility, Philadelphia, Pa., Prison System—facility with a high prevalence of sexual victimization; Harris County Jail—1200 Baker Street Jail, Harris County, Tex., Sheriff's Office—facility with a high prevalence of sexual victimization; Baltimore City Detention Center, Maryland Department of Public Safety and Correctional Services—facility with a high prevalence of sexual victimization; Jefferson County Jail, Jefferson County, Colo., Sheriff's Office—facility with a low prevalence of sexual victimization; and Cameron County Carrizales-Rucker Detention Center, Cameron County, Tex., Sheriff's Office—facility with a low prevalence of sexual victimization.

3. Thursday, January 9, 2014, 8:30 a.m. to 1:00 p.m.: Dr. Mary L. Livers, Deputy Secretary, Louisiana Office of Juvenile Justice and President Elect, American Correctional Association; Brenda V. Smith, Professor of Law, American University Washington College of Law; Kim Shayo Buchanan, Associate Professor of Law and Gender Studies, USC Gould School of Law; Paulding Regional Youth Detention Center and Eastman Youth Development Campus, Georgia Department of Juvenile Justice—facilities with a high prevalence of sexual victimization; Circleville Juvenile Correctional Facility, Ohio Department of Youth Services—facility with a high prevalence of sexual victimization; Owensboro Treatment Center, Kentucky Department of Juvenile Justice—facility with a low prevalence of sexual victimization; Grand Mesa Youth Services Center, Colorado Division of Youth Corrections—facility with a low prevalence of sexual victimization; Joshua C. Delaney, Senior Trial Attorney, Civil Rights Division, U.S. Department of Justice; and Jenni Trovillion, Co-Director, National PREA Resource Center.

ADDRESSES: The hearings will take place at the Office of Justice Programs Building, Main Conference Room, Third Floor, U.S. Department of Justice, 810 7th Street NW., Washington, DC 20531.

FOR FURTHER INFORMATION CONTACT: Christopher P. Zubowicz, Designated Federal Official, OJP, Christopher.Zubowicz@usdoj.gov, (202) 307-0690. [Note: This is not a toll-free number.]

SUPPLEMENTARY INFORMATION: The Panel, which was established pursuant to the Prison Rape Elimination Act of 2003, Public Law No. 108-79, 117 Stat. 972 (codified as amended at 42 U.S.C. 15601-15609 (2006)), will hold its next hearings to carry out the review functions specified at 42 U.S.C. 15603(b)(3)(A). Testimony from the hearings will assist the Panel in carrying out its statutory obligations. The witness list is subject to amendment; please refer to the Review Panel on Prison Rape's Web site at http://www.ojp.usdoj.gov/reviewpanel/reviewpanel.htm for any updates regarding the hearing schedule. Space is limited at the hearing location. Members of the public who wish to attend the hearings in Washington, DC, must present government-issued photo identification upon entrance to the Office of Justice Programs. Special needs requests should be made to Christopher P. Zubowicz, Designated Federal Official, OJP, Christopher.Zubowicz@usdoj.gov or (202) 307-0690, at least one week before the hearings.

Michael Alston,
Director, Office for Civil Rights, Office of Justice Programs.

[FR Doc. 2013-30423 Filed 12-20-13; 8:45 am]

BILLING CODE 4410-18-P